DEPARTMENT OF JUSTICE

Antitrust Division

Notice Pursuant to the National Cooperative Research and Production Act of 1993—SchoolTone Alliance, Inc.

Notice is hereby given that, on July 25, 2000, pursuant to section 6(a) of the National Cooperative Research and Production Act of 1993, 15 U.S.C. 4301 et seq. (“the Act”), SchoolTone Alliance, Inc. (“SchoolTone”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are SchoolTone Alliance, Inc., San Francisco, CA; AboveNet, San Jose, CA; ACTV, New York, NY; BigChalk, Bellingham, WA; Blackboard, Inc., Washington, DC; Britannica, San Francisco, CA; Callisto Media Systems, Hull, Quebec, CANADA; Computer Curriculum Corporation, Sunnyvale, CA; Exodus Communications, Santa Clara, CA; HighWired.com, Watertown, MA; I-Mind Education Systems, Inc., Corte Madera, CA; Isis Communications Limited, Melbourne, Victoria, AUSTRALIA; Jason Project, Waltham, MA; Lucent Technologies, Warren, NJ; Open School/Open Learning, Victoria, British Columbia, CANADA; Power School, Folsom, CA; RiverDeep Interactive Learning, Cambridge, MA; Simplexis, San Francisco, CA; SRI International, Menlo Park, CA; Sun Microsystems, Inc., Palo Alto, CA; Timecruiser Computing Corporation, Fairfield, NJ; and USA Video Interactive, Mystic, CT.

The nature and objectives of the venture are to improve the quality and effectiveness of kindergarten through 12th grade (“K-12”education by creating a global association of technology and service companies to promote collaboration among companies in providing “anytime, anywhere learning” over the web; to create and promote the offering of high-quality portals that provide affordable and easy-to-access Internet content and communication tools and applications for K-12 schools; to promote the development of web-based educational materials, portal technologies, applications and services which can be deployed through educational service providers to K-12 schools worldwide, and be a forum for the suppliers of such materials, portal technologies, applications and services; to evaluate grant proposals and recommend the selection of specific K-12 schools as grant recipients for computer hardware, software and related technologies to be donated free of charge or below cost by for-profit corporations; and to promote to schools the availability of on-line academic resources free or at an affordable cost. The corporation shall not engage in commercial sales of products or services. In furtherance of the above stated specific purpose, SchoolTone may, among other things, engage in theoretical analysis; experimentation; systematic study research; development; testing; the extension of investigative findings or theory of a scientific or technical nature into practical application; the collection, exchange and analysis of research or production information; and any combination of the foregoing.

Constance K. Robinson,
Director of Operations, Antitrust Division.

[FR Doc. 00-25722 Filed 10-5-00; 8:45 am]

BILLING CODE 4410-11-M